DEPARTMENT OF ENERGY

[EERE-2023-BT-CE-0001]

Energy Conservation Program: Proposed Agency Information Collection Extension

AGENCY: Office of Energy Efficiency and Renewable Energy, Department of Energy.

ACTION: Information collection extension; notice and request for comment.

SUMMARY: The U.S. Department of Energy (DOE) intends to extend for three years with the Office of Management and Budget (OMB), the Certification Reports, Compliance Statements, Application for a Test Procedure Waiver, and Recordkeeping for Consumer Products and Commercial/Industrial Equipment subject to Energy or Water Conservation Standards Package under OMB No. 1910-1400.

DATES: DOE will accept comments, data, and information regarding this proposal no later than November 27, 2023.

ADDRESSES: Interested persons are encouraged to submit comments using the Federal eRulemaking Portal at www.regulations.gov under docket number EERE-2023-BT-CE-0001. Follow the instructions for submitting comments. Alternatively, interested persons may submit comments, identified by docket number EERE-2023-BT-CE-0001, by any of the following methods:

Email: ApplianceStandardsQuestions@ee.doe.gov. Include the docket number EERE-2023-BT-CE-0001 in the subject line of the message.

Postal Mail: Appliance and Equipment Standards Program, U.S. Department of Energy, Building Technologies Office, Mailstop EE-5B, 1000 Independence Avenue SW, Washington, DC 20585-0121. Telephone: (202) 287-1445. If possible, please submit all items on a compact disc (“CD”), in which case it is not necessary to include printed copies.

Hand Delivery/Courier: Appliance and Equipment Standards Program, U.S. Department of Energy, Building Technologies Office, 1000 Independence Avenue SW, Washington, DC 20585. Telephone: (202) 287-1445. If possible, please submit all items on a CD, in which case it is not necessary to include printed copies.

No telefacsimiles (“faxes”) will be accepted.

Docket: The docket for this activity, which includes Federal Register notices, public meeting attendee lists and transcripts (if a public meeting is held), comments, and other supporting documents/materials, is available for review at www.regulations.gov. All documents in the docket are listed in the www.regulations.gov index. However, not all documents listed in the index may be publicly available, such as information that is exempt from public disclosure.

The docket web page can be found at www.regulations.gov/docket/EERE-2023-BT-CE-0001. The docket web page contains instructions on how to access all documents, including public comments, in the docket.

FOR FURTHER INFORMATION CONTACT: Mr. Lucas Adin, U.S. Department of Energy, Office of Energy Efficiency and Renewable Energy, Building Technologies Office, EE-5B, 1000 Independence Avenue SW, Washington, DC 20585-0121. Telephone: (202) 287-5904. Email: ApplianceStandardsQuestions@ee.doe.gov.

SUPPLEMENTARY INFORMATION: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-1400;

(2) Information Collection Request Title: Certification Reports, Compliance Statements, Application for a Test Procedure Waiver, Application for Extension of Representation Requirements, Labeling, and Recordkeeping for Consumer Products and Commercial/Industrial Equipment subject to Federal Energy or Water Conservation Standards;

(3) Type of Request: Revision with changes;

(4) Purpose: Pursuant to the Energy Policy and Conservation Act, as amended (“EPCA” or “the Act”),¹ Public Law 94-163 (42 U.S.C. 6291-6317, as codified), DOE regulates the energy efficiency of a number of consumer products, and commercial and industrial equipment. Title III, Part B ² of EPCA established the Energy Conservation Program for Consumer Products Other Than Automobiles, which sets forth a variety of provisions designed to improve energy efficiency of covered consumer products (“covered products”). Title III, Part C ³ of EPCA, added by Public Law 95-619, Title IV, section 441(a), established the Energy Conservation Program for Certain Industrial Equipment, which sets forth a variety of provisions designed to improve energy efficiency of covered commercial and industrial equipment (collectively referred to as “covered equipment”).

¹ All references to EPCA in this document refer to the statute as amended through the Energy Act of 2020, Public Law 116-260 (Dec. 27, 2020), which reflect the last statutory amendments that impact Parts A and A-1 of EPCA.

² For editorial reasons, upon codification in the U.S. Code, Part B was redesignated Part A.

³ For editorial reasons, upon codification in the U.S. Code, Part C was redesignated Part A-1.

Covered products and covered equipment are described in 10 CFR parts 429, 430, and 431. These covered products and covered equipment, including all product or equipment classes, include: (1) Consumer refrigerators, refrigerator-freezers and freezers; (2) Room air conditioners; (3) Central air conditioners and central air conditioning heat pumps; (4) Consumer water heaters; (5) Consumer furnaces and boilers; (6) Dishwashers; (7) Residential clothes washers; (8) Clothes dryers; (9) Direct heating equipment; (10) Cooking products; (11) Pool heaters; (12) Television sets; (13) Fluorescent lamp ballasts; (14) General service fluorescent lamps, general service incandescent lamps, and incandescent reflector lamps; (15) Faucets; (16) Showerheads; (17) Water closets; (18) Urinals; (19) Ceiling fans; (20) Ceiling fan light kits; (21) Torchieres; (22) Compact fluorescent lamps; (23) Dehumidifiers; (24) External power supplies; (25) Battery chargers; (26) Candelabra base incandescent lamps and intermediate base incandescent lamps; (27) Commercial warm air furnaces; (28) Commercial refrigerators, freezers, and refrigerator-freezers; (29) Commercial heating and air conditioning equipment; ⁴ (30) Commercial water heating equipment; (31) Automatic commercial ice makers; (32) Commercial clothes washers; (33) Distribution transformers; (34) Illuminated exit signs; (35) Traffic signal modules and pedestrian modules; (36) Commercial unit heaters; (37) Commercial pre-rinse spray valves; (38) Refrigerated bottled or canned beverage vending machines; (39) Walk-in coolers and walk-in freezers and certain components; (40) Metal halide lamp ballasts and fixtures; (41) Integrated light-emitting diode lamps; (42) General service lamps; (43) Furnace fans; (44) Pumps; (45) Commercial packaged boilers; (46) Consumer miscellaneous refrigeration equipment; (47) Portable air conditioners; (48) Compressors; (49) Electric motors; (50) Small electric motors; (51) rough service lamps; (52) vibration service lamps; (53) dedicated-purpose pool pump motors; and (54) air cleaners.

⁴ Commercial heating and air conditioning equipment includes Computer Room Air Conditioners; Air-Cooled, Three-Phase, Small Commercial Air Conditioners and Heat Pumps w/a Cooling Capacity of Less Than 65,000 Btu/h and Air-Cooled, Three-Phase Variable Refrigerant Flow Air Conditioners and Heat Pumps w/a Cooling Capacity of Less Than 65,000 Btu/h; Single Packaged Vertical Air Conditioners and Heat Pumps; and Direct-expansion Dedicated Outdoor Air Systems.

Under EPCA, DOE's energy conservation program consists essentially of four parts: (1) Testing, (2) labeling, (3) Federal energy conservation standards, and (4) certification and enforcement procedures. For consumer products, relevant provisions of the Act specifically include definitions (42 U.S.C. 6291), energy conservation standards (42 U.S.C. 6295), test procedures (42 U.S.C. 6293), labeling provisions (42 U.S.C. 6294), and the authority to require information and reports from manufacturers (42 U.S.C. 6296). For covered equipment, relevant provisions of the Act include definitions (42 U.S.C. 6311), energy conservation standards (42 U.S.C. 6313), test procedures (42 U.S.C. 6314), labeling provisions (42 U.S.C. 6315), and the authority to require information and reports from manufacturers (42 U.S.C. 6316). DOE is seeking to renew its information collection related to the following aspects of the appliance standards program: (1) Gathering data and submitting certification and compliance reports for each basic model distributed in commerce in the U.S. including supplemental testing instructions for certain commercial equipment; (2) maintaining records underlying the certified ratings for each basic model including test data and the associated calculations; (3) applications for a test procedure waiver, which manufacturers may elect to submit if they manufacture a basic model that cannot be tested pursuant to the DOE test procedure; (4) applications requesting an extension of the date by which representations must be made in accordance with any new or amended DOE test procedure; and (5) labeling.

DOE's certification and compliance activities ensure accurate and comprehensive information about the energy and water use characteristics of covered products and covered equipment sold in the United States. Manufacturers of all covered products and covered equipment must submit a certification report before a basic model is distributed in commerce, annually thereafter, and if the basic model is redesigned in such a manner to increase the consumption or decrease the efficiency of the basic model such that the certified rating is no longer supported by the test data. Additionally, manufacturers must report when production of a basic model has ceased and is no longer offered for sale as part of the next annual certification report following such cessation. DOE requires the manufacturer of any covered product or covered equipment to establish, maintain, and retain the records of certification reports, of the underlying test data for all certification testing, and of any other testing conducted to satisfy the requirements of part 429, part 430, and/or part 431. Certification reports provide DOE and consumers with comprehensive, up-to-date efficiency information and support effective enforcement.

As the result of a several changes to its regulatory provisions for covered products and equipment enacted through rulemakings since the last review of the current information collection, DOE has also proposed several updates to its certification provisions for the affected products and equipment. DOE proposed these changes in a notice of proposed rulemaking issued on August 28, 2023 (“Certification NOPR”). The total annual estimated respondents, responses, burden hours, and reporting and recordkeeping cost burden that are reported in this notice include the additional costs that DOE estimated would result from the changes to certification reporting requirements proposed in the Certification NOPR. The notice of proposed rulemaking for these certification provisions is included in docket number EERE-2023-BT-CE-0001.

(5) Proposed changes to the information collection, including description of additional information that would be collected.

In a proposed rule issued on August 28, 2023,⁵ the U.S. Department of Energy (“DOE”) proposed to establish and amend the certification provisions, labeling requirements, and enforcement provisions for the following products and equipment: central air conditioners and heat pumps; dishwashers; residential clothes washers; pool heaters; dehumidifiers; external power supplies; battery chargers; computer room air conditioners; direct-expansion outdoor air systems; Air Cooled, Three-Phase, Small Commercial Air Conditioners and Heat Pumps with a Cooling Capacity of Less Than 65,000 Btu/h and Air-Cooled, Three-Phase, Variable Refrigerant Flow Air Conditioners and Heat Pumps with a Cooling Capacity of Less Than 65,000 Btu/h; commercial water heating equipment; automatic commercial ice makers; walk-in coolers and freezers; commercial and industrial pumps; portable air conditioners; compressors; dedicated-purpose pool pump motors; air cleaners; single-package vertical air conditioners and heat pumps; and ceiling fan light kits. These proposed amendments are described in sections II and III of the proposed rule. DOE is proposing these amendments to align reporting that is consistent with currently applicable energy conservation standards and test procedures and to ensure DOE has the information necessary to determine the appropriate classification of products for the application of standards.

⁵ The pre-publication proposed rule can be accessed at https://www.energy.gov/sites/default/files/2023-08/cce-nop.pdf?utm_medium=email&utm_source=govdelivery.

(6) Annual Estimated Number of Respondents: 2,083;

(7) Annual Estimated Number of Total Responses: 32,255;

(8) Annual Estimated Number of Burden Hours: 776,310 (35 hours per certification, including the time for reviewing instructions, searching existing data sources, gathering and maintaining the data needed, and completing and reviewing the collection of information; 16 additional hours for creating supplement testing instructions for commercial HVAC, water heating, and refrigeration equipment manufacturers; 160 hours for test procedure waiver preparation; 160 hours for representation extension request preparation), 1 hour for creating and applying a label for walk-in cooler and freezer, commercial and industrial pump, and electric motor manufacturers).

(9) Annual Estimated Reporting and Recordkeeping Cost Burden: $51,795,000.

Statutory Authority: Section 326(d) of the Energy Policy and Conservation Act, Public Law 94-163, as amended (42 U.S.C. 6296); 10 CFR parts 429, 430, and 431.

Signing Authority

This document of the Department of Energy was signed on September 19, 2023, by Jeffrey Marootian, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 21, 2023.
Treena V. Garrett,
Federal Register Liaison Officer, U.S. Department of Energy.

[FR Doc. 2023-20827 Filed 9-25-23; 8:45 am]

BILLING CODE 6450-01-P